ENVIRONMENTAL PROTECTION AGENCY

40 CFR Part 60

[FRL-6965-3]

RIN 2060-AE56

Standards of Performance for Electric Utility Steam Generating Units for Which Construction Is Commenced After September 18, 1978; Standards of Performance for Industrial-Commercial-Institutional Steam Generating Units

AGENCY: Environmental Protection Agency (EPA).

ACTION: Proposed rule; amendments.

SUMMARY: This action proposes amendments to the emissions monitoring and compliance provisions contained in Subpart Da—Standards of Performance for Electric Utility Steam Generating Units for Which Construction is Commenced After September 18, 1978, and Subpart Db—Standards of Performance for Industrial-Commercial-Institutional Steam Generating Units. This action proposes monitoring exemptions and alternative compliance requirements for duct burners used in combined cycle systems. The proposed amendments ensure that all owners or operators of duct burners have appropriate compliance requirements and similar exemptions for their monitoring requirements.

In the Rules and Regulations section of this Federal Register, we are making these amendments in a direct final rule, without prior proposal, because we view these revisions as noncontroversial, and we anticipate no significant adverse comments. We have explained our reasons for these amendments in the preamble to the direct final rule.

If we receive no significant adverse comments, we will take no further action on this proposed rule. If an adverse comment applies to an amendment, paragraph, or section of this proposed rule, and that provision may be addressed separately from the remainder of the proposed rule, we will withdraw only those provisions on which we received adverse comments. We will publish a timely withdrawal in the Federal Register indicating which provisions will become effective and which provisions are being withdrawn.

DATES: Written comments on these proposed amendments must be received by May 10, 2001. Anyone requesting a public hearing must contact EPA no later than April 20, 2001. If a hearing is held, it will take place on April 24, 2001 beginning at 10 a.m. Persons interested in attending the hearing, should call Ms. Libby Bradley at (919) 541-5578 to verify that a hearing will be held.

ADDRESSES: By U.S. Postal Service, send comments (in duplicate if possible) to: Air and Radiation Docket and Information Center (6102), Attention Docket Number A-92-71, U.S. Environmental Protection Agency, 1200 Pennsylvania Avenue, SW, Washington, DC 20460. In person or by courier, deliver comments (in duplicate if possible) to: Air and Radiation Docket and Information Center (6102), Attention Docket Number A-92-71, U.S. Environmental Protection Agency, 401 M Street, SW, Washington, DC 20460. The EPA requests that a separate copy of each public comment be sent to the contact person listed below.

FOR FURTHER INFORMATION CONTACT: Mr. James Eddinger, Combustion Group, Emission Standards Division (MD-13), U.S. Environmental Protection Agency, Research Triangle Park, North Carolina 27711, telephone number: (919) 541-5426, facsimile: (919) 541-5450, electronic mail address: eddinger.jim@epa.gov. For information regarding the applicability of this action to a particular entity, contact the appropriate EPA Regional Office representative.

SUPPLEMENTARY INFORMATION: Comments. Comments and data may be submitted by electronic mail (e-mail) to: a-and-r-docket@epa.gov. Electronic comments must be submitted as an ASCII file to avoid the use of special characters and encryption problems and will also be accepted on disks in WordPerfect® version 5.1, 6.1 or Corel 8 file format. All comments and data submitted in electronic form must note the docket number A-92-71. No confidential business information (CBI) should be submitted by e-mail. Electronic comments may be filed online at many Federal Depository Libraries.

Commenters wishing to submit propriety information for consideration must clearly distinguish such information from other comments and clearly label it as CBI. Send submissions containing such propriety information directly to the following address, and not to the public docket, to ensure that propriety information is not inadvertently placed in the docket: Attention: Mr. Roberto Morales, U.S. EPA, OAQPS Document Control Officer, 411 W. Chapel Hill Street, Room 740, Durham NC 27701. The EPA will disclose information identified as CBI only to the extent allowed by the procedures set forth in 40 CFR part 2. If no claim of confidentiality accompanies a submission when it is received by the EPA, the information may be made available to the public without further notice to the commenter.

Docket. The docket is an organized and complete file of information compiled by EPA in development of this rulemaking. The docket is a dynamic file because material is added throughout the rulemaking process. The docketing system is intended to allow members of the public and industries involved to readily identify and locate documents so that they can effectively participate in the rulemaking process. Along with the proposed and promulgated standards and their preambles, the docket contains the record in the case of judicial review. The docket number for this rulemaking is A-92-71, which supported the proposal and promulgation of the revised NOX NSPS for boilers. An index for each docket, as well as individual items contained within the dockets, may be obtained by calling (202) 260-7548 or (202) 260-7549. A reasonable fee may be charged for copying docket materials. Docket indexes are also available by facsimile, as described on the Office of Air and Radiation, Docket and Information Center Website at http://www.epa.gov/airprogm/oar/docket/faxlist.html.

World Wide Web. In addition to being available in the docket, an electronic copy of today's action will be posted on the Technology Transfer Network's (TTN) policy and guidance information page http://www/epa/gov/ttn/caaa. The TTN provides information and technology exchange in various areas of air pollution control. If more information regarding the TTN is needed, call the TTN HELP line at (919) 541-5384.

Regulated Entities. Entities that potentially will be affected by these amendments are combined cycle systems employing duct burners. The regulated categories and entities include the following:

Category | Regulated entities
Industry | Electric utility steam generating units, industrial steam generating units, commercial steam generating units, and institutional steam generating units.

This table is not intended to be exhaustive, but rather provides a guide for readers regarding entities likely to be regulated by this action. This table lists the types of entities that we are now aware could potentially be regulated by this action. Other types of entities not listed in the table could also be regulated. To determine whether your facility, company, business, organization, etc., is regulated by this action, you should carefully examine the applicability criteria in §§ 60.40a and 60.40b of the rules. If you have questions regarding the applicability of this action to a particular entity, consult the person listed in the preceding FOR FURTHER INFORMATION CONTACT section.

What Are the Administrative Requirements for This Action?

Regulatory Flexibility Act (RFA), as Amended by the Small Business Regulatory Enforcement Fairness Act of 1996 (SBREFA), 5 U.S.C. 601 et seq.

Today's proposed rule is not subject to the RFA, which generally requires an agency to prepare a regulatory flexibility analysis for any rule that will have a significant economic impact on a substantial number of small entities. The RFA applies only to rules subject to notice-and-comment rulemaking requirements under the Administrative Procedure Act (APA) or any other statute. This proposed rule is not subject to notice and comment requirements under the APA or any other statute.

Today's proposed rule will have no significant impact on a substantial number of small entities because they clarify and make corrections to the promulgated 40 CFR part 60, subparts Da and Db, and do not impose any additional regulatory requirements on owners or operators of affected sources regulated by standards promulgated on September 16, 1998 (634 FR 49442).

For additional information, see the direct final rule published in the Rules and Regulations section of this Federal Register publication.

List of Subjects in 40 CFR Part 60

Environmental protection, Air pollution control, Electric utility steam generating units, Industrial-commercial-institutional steam generating units, Intergovernmental relations, Reporting and recordkeeping requirements.

Dated: April 3, 2001.
Christine Todd Whitman,
Administrator.

[FR Doc. 01-8799 Filed 4-9-01; 8:45 am]

BILLING CODE 6560-50-P